ENVIRONMENTAL PROTECTION AGENCY

[FRL-7983-8; E-Docket ID No. ORD-2005-0021]

Additional Proposed Indicators for the U.S. EPA's 2007 Report on the Environment

AGENCY: Environmental Protection Agency (EPA).

ACTION: Notice of public comment period.

SUMMARY: EPA is announcing a 30-day public review and comment period on several Additional Proposed Indicators—EPA ROE 2007. These proposed indicators are in addition to the proposed indicators that were the subject of a June 6, 2005, Federal Register notice (70 FR 32769) that announced both a public comment period and an independent peer-review workshop that was held on July 27-29, 2005. Several of these additional indicators were added in response to comments from the first peer-review regarding additional indicators needed. Others were evaluated during the first review but have changed substantially and therefore warrant re-review; and a few are indicators for which materials were not ready at the time of the initial review. In addition to the public comment period, this set of additional proposed indicators will also undergo independent expert peer-review. The peer-review for this smaller set will be conducted via letter review. ERG, an EPA contractor for external scientific peer-review, is conducting this independent, external, peer-review and will engage the same expert panel that reviewed the first set of proposed ROE 2007 indicators. This public comment period, however, provides an opportunity for all stakeholders to weigh in on the primary contents of the draft 2007 Report on the Environment (EPA ROE 2007) at an early stage. In preparing the EPA ROE 2007, EPA will consider ERG's report of the comments and recommendations from this expert peer-review and any public comments EPA receives in accordance with today's notice.

EPA is releasing these proposed indicators for public comment and for the purpose of pre-dissemination peer-review under applicable information quality guidelines. These indicators have not been formally disseminated by EPA. They do not represent and should not be construed to represent any Agency policy or determination.

DATES: The 30-day public comment period begins October 21, 2005, and ends November 21, 2005. Comments must be postmarked by November 21, 2005.

ADDRESSES: The Additional Proposed Indicators—EPA ROE 2007 are available primarily via the Internet at: www.epa.gov/ROEindicators. Each of the proposed additional indicators can be downloaded separately from this Web site in the PDF format. A limited number of electronic copies on compact disc (CD) are available from the National Center for Environmental Assessment's Technical Information Staff, NCEA-W; telephone: 202-564-3261; facsimile: 202-565-0050. If you are requesting a CD, please provide your name, your mailing address, and the document title, “Additional Proposed Indicators—EPA ROE 2007.”

Public comments may be submitted electronically via EPA's E-Docket, by mail, by facsimile, or by hand delivery/courier. Please follow the detailed instructions for submission of public comments as provided in the section of this notice entitled SUPPLEMENTARY INFORMATION.

FOR FURTHER INFORMATION CONTACT: For information on the public comment period, contact the OEI Docket; telephone: 202-566-1752; facsimile: 202-566-1753; or e-mail: ORD.Docket@epa.gov.

If you have technical questions about the Additional Proposed Indicators—EPA ROE 2007, contact: Julie Damon, National Center for Environmental Assessment (8601D), U.S. EPA, 1200 Pennsylvania Avenue, NW., Washington, DC 20460; telephone: 202-564-3404; facsimile: 202-565-0065; or e-mail: damon.julie@epa.gov.

SUPPLEMENTARY INFORMATION:

About the Report on the Environment and the Proposed Indicators—EPA ROE 2007

In June 2003, EPA published its first national Draft Report on the Environment, using available indicators and data to answer questions pertaining to national environmental and human health conditions. At that time, EPA released two companion documents—one for readers with a general interest in the environment (Draft Report on the Environment Public Report) and another for more technical readers (Draft Report on the Environment Technical Document). These draft documents utilized indicators to describe the then current environmental conditions, trends, and data gaps.

Shortly after the release of the 2003 draft documents, EPA announced that it planned to release the next Report on the Environment in 2007. Activities related to the development of EPA's 2007 ROE have been ongoing since release of the 2003 draft documents. As in 2003, EPA anticipates the 2007 ROE will include the release of two paper documents—one for readers with a general interest in the environment (a Public Report) and another for more technical readers (a Technical Document). EPA also intends to make the information in the 2007 ROE available as an interactive, searchable Web site—the “e-ROE.” The Technical Document will provide the scientific foundation for the more general Public Report and the e-ROE. EPA plans to use the Technical Document to present and discuss indicators that are currently available to answer the questions posed in the ROE 2007.

EPA encourages the public to submit comments on whether these additional indicators proposed to be included in the EPA ROE 2007 Technical Document are supported by data that are technically sound, meet the established indicator definition and criteria, and help answer the questions posed in the ROE 2007. In addition, EPA welcomes comments on any other aspect of the proposed indicators that the public would like to share with the Agency. After ERG provides EPA with a report of the peer-review on these additional proposed indicators, as well as the report resulting from the July 2005 peer-review workshop, EPA will consider ERG's report and the public comments. Any resulting revisions to the proposed indicators or any changes to the list of proposed indicators will be discussed within EPA and with our federal agency partners. The external review draft of the EPA ROE 2007 Technical Document is expected in summer/fall 2006.

How To Submit Comments to EPA's E-Docket

EPA has established an official public docket for information pertaining to the Additional Proposed Indicators—EPA ROE 2007, Docket ID No. ORD-2005-0021. The official public docket is the collection of materials, excluding Confidential Business Information (CBI) or other information for which disclosure is restricted by statute, that is available for public viewing at the Office of Environmental Information (OEI) Docket in the Headquarters EPA Docket Center, EPA West Building, Room B102, 1301 Constitution Ave., NW., Washington, DC. The EPA Docket Center Public Reading Room is open from 8:30 a.m. to 4:30 p.m., Monday through Friday, excluding legal holidays. The telephone number for the Public Reading Room is 202-566-1744, and the telephone number for the OEI Docket is 202-566-1752; facsimile: 202-566-1753; or e-mail: ORD.Docket@epa.gov.

An electronic version of the official public docket is available through EPA's electronic public docket and comment system, E-Docket. You may use E-Docket at http://www.epa.gov/edocket/ to submit or view public comments, to access the index of the contents of the official public docket, and to view those documents in the public docket that are available electronically. Once in the system, select “search,” then key in the appropriate docket identification number.

Certain types of information will not be placed in E-Docket. Information claimed as CBI and other information for which disclosure is restricted by statute are not included in the official public docket and also will not be available for public viewing in E-Docket. Copyrighted material will not be placed in E-Docket, but will be referenced there and available as printed material in the official public docket.

If you intend to submit comments to EPA, please note that it is EPA policy to make comments available for public viewing just as they are received at the EPA Docket Center or in E-Docket. This policy applies to information submitted electronically or in paper form, except where restricted by copyright, CBI, or statute. When EPA identifies a comment containing copyrighted material, EPA will provide a reference to that material in the version of the comment placed in EPA's electronic public docket; the entire printed comment, including the copyrighted material, will be available in the official public docket.

Public comments submitted on computer disks that are mailed or delivered to the docket will be transferred to E-Docket. Physical objects will be photographed, where practical, and the photograph will be placed in E-Docket along with a brief description written by the docket staff.

You may submit comments electronically, by mail, by facsimile, or by hand delivery/courier. To ensure proper receipt by EPA, include the appropriate docket identification number with your submission. Please adhere to the specified submitting period; public comments received past the closing date will be marked “late” and may only be considered if time permits.

If you submit public comments electronically, EPA recommends that you include your name, mailing address, and an e-mail address or other contact information in the body of your comment. Also include these contact details on the outside of any submitted disk or CD-ROM, and in any cover letter accompanying the disk or CD-ROM. This ensures that you can be identified as the person submitting the comment and allows EPA to contact you in case the Agency cannot read your submission due to technical difficulties, or needs further information on the substance of your comment. EPA will not edit your comment, and any identifying or contact information provided in the body of the comment will be included as part of the comment placed in the official public docket and made available in E-Docket. If EPA cannot read what you submit due to technical difficulties and cannot contact you for clarification, it may delay or preclude EPA's consideration of your comments.

Electronic submission of comments via E-Docket is the preferred method for receiving comments. To access EPA's electronic public docket from the EPA Internet Home Page, select “Information Sources,” “Dockets,” and “EPA Dockets.” Once in the system, select “search,” and key in Docket ID No. ORD-2005-0021. The system is an “anonymous access” system, which means EPA will not know your identity, e-mail address, or other contact details unless you provide it in the body of your comment.

Comments may be sent by electronic mail (e-mail) to ORD.Docket@epa.gov, Attention Docket ID No. ORD-2005-0021. In contrast to EPA's electronic public docket, EPA's e-mail system is not an “anonymous access” system. If you send an e-mail directly to the docket without going through EPA's E-Docket, EPA's e-mail system automatically captures your e-mail address, and it becomes part of the information in the official public docket and is made available in E-Docket.

You may submit comments on a disk or CD-ROM mailed to the OEI Docket mailing address. Files will be accepted in WordPerfect, Word, or PDF file format. Avoid the use of special characters and any form of encryption. If you provide comments in writing, please submit one unbound original with pages numbered consecutively, and three copies. For attachments, provide an index, number pages consecutively with the main text, and submit an unbound original and three copies.

Dated: October 6, 2005.
Peter Preuss,
Director, National Center for Environmental Assessment.

[FR Doc. 05-21094 Filed 10-20-05; 8:45 am]

BILLING CODE 6560-50-P